FEDERAL ELECTION COMMISSION

Sunshine Act Meeting

Special Executive Session

Date & Time: Tuesday, February 17, 2004, at 2 p.m.

Place: 999 E Street, NW., Washington, DC.

Status: This meeting was closed to the public pursuant to 11 CFR 2.4(b)(7).

Date & Time: Thursday, February 26, 2004, at 10 a.m.

Place: 999 E Street, NW., Washington, DC (ninth floor).

Status: This meeting will be open to the public.

Items To Be Discussed: Correction and approval of minutes.

Draft Advisory Opinion 2004-02: National Committee for an Effective Congress by counsel, Judith L. Corley.

Future meeting dates.

Routine administrative matters.

Person to Contact for Information: Robert W. Biersack, Acting Press Officer. Telephone: (202) 694-1220.

Mary W. Dove,
Secretary of the Commission.

[FR Doc. 04-4008 Filed 2-19-04; 2:45 pm]

BILLING CODE 6215-01-M